DEPARTMENT OF THE TREASURY

Submission for OMB Review; Comment Request

October 5, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 15, 2001 to be assured of consideration.

Internal Revenue Service (IRS)

OMB Number: 1545-1360.

Regulation Project Number: PS-102-88 Final.

Type of Review: Extension.

Title: Income, Gift and Estate Tax.

Description: The regulation provides guidance to individuals or fiduciaries: (1) For making a qualified domestic trust election on the estate tax return of a decedent whose surviving spouse is not a United States citizen in order that the estate may obtain the marital deduction, and (2) for filing the annual returns that such an election may require.

Respondents: Individuals or households.

Estimated Number of Respondents: 2,300.

Estimated Burden Hours Per Respondent: 2 hours, 40 minutes.

Frequency of Response: Annually.

Estimated Total Reporting Burden: 6,150 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 01-25973 Filed 10-15-01; 8:45 am]

BILLING CODE 4830-01-P